ENVIRONMENTAL PROTECTION AGENCY

40 CFR Part 52

[EPA-R02-OAR-2023-0237; FRL 11904-02-R2]

Approval of Source-Specific Air Quality Implementation Plan; New York; Sylvamo Ticonderoga Mill

AGENCY: Environmental Protection Agency (EPA).

ACTION: Final rule.

SUMMARY: The Environmental Protection Agency (EPA) is approving a revision to the State of New York's State Implementation Plan (SIP) for the ozone National Ambient Air Quality Standard (NAAQS) related to a Source-specific SIP (SSSIP) revision for the Sylvamo Ticonderoga Mill (formerly known as International Paper), located at 568 Shore Airport Rd., Ticonderoga, New York (the Facility). The control options in this SSSIP revision implement Reasonably Available Control Technology (RACT) for nitrogen oxide (NOX) emissions from the relevant Facility sources, which include one power boiler, one lime kiln, and one recovery furnace. This SSSIP revision is intended to implement NOX RACT for the relevant Facility sources in accordance with the requirements for implementation of the 2008 and 2015 ozone NAAQS. This action will not interfere with ozone NAAQS requirements and meets all applicable requirements of the Clean Air Act (CAA). The EPA proposed to approve this rule on May 23, 2024, and received two comments, neither of which were relevant to the rulemaking.

DATES: This final rule is effective on October 21, 2024.

ADDRESSES: The EPA has established a docket for this action under Docket ID Number EPA-R02-OAR-2023-0237. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available electronically through https://www.regulations.gov.

FOR FURTHER INFORMATION CONTACT: Stephanie Lin, Air Programs Branch, Environmental Protection Agency, Region 2 Office, 290 Broadway, 25th Floor, New York, New York 10007-1866, 212-637-3711, or by email at lin.stephanie@epa.gov.

SUPPLEMENTARY INFORMATION: For additional information on regulatory background and the EPA's technical findings relating to the Facility RACT, the reader can refer to the Technical Support Document (TSD) that is contained in the EPA docket assigned to this Federal Register document.

Table of Contents

I. What is the background for this action?

II. Environmental Justice Considerations

III. What comments were received in response to the EPA's proposed action?

IV. What action is the EPA taking?

V. Incorporation by Reference

VI. Statutory and Executive Order Reviews

I. What is the background for this action?

This action relates to a SSSIP revision that concerns the Facility which is a fully integrated pulp and paper manufacturer of printing papers. The Facility processes hardwood and softwood logs and chips using the kraft pulping process and produces approximately 900 tons per day of uncoated free sheet paper for commercial printing. Converted kraft pulp is washed, bleached, and prepared for finishing by two paper machines. The sources at issue in this action are the Facility's one power boiler, one lime kiln, and one recovery furnace. NYSDEC RACT regulations establish presumptive RACT requirements for these sources in (1) 6 NYCRR part 227, “Stationary Combustion Installations,” subpart 227-2, “Reasonably Available Control Technology for Major Facilities of Oxides of Nitrogen,” last approved by the EPA on July 12, 2013, see 78 FR 41846 (July 12, 2013); and (2) 6 NYCRR part 212, “Process Operations,” subpart 212-3, “Reasonably Available Control Technology for Major Facilities,” last approved by the EPA on October 1, 2021, see 87 FR 54375 (October 1, 2021). However, as explained above, the State regulations allow Source-specific RACT determinations if the presumptive RACT requirements are not technologically or economically feasible; such Source-specific determinations must be submitted to the EPA as a SSSIP revision.

This SSSIP revision was submitted by NYSDEC on November 23, 2022, and it replaces and supersedes the SSSIPs that were submitted by the State on September 16, 2008, and August 30, 2010. On May 23, 2024, the EPA published a Notice of Proposed Rulemaking that proposed to approve a SSSIP revision to address NOX RACT emission limits for the one power boiler, one lime kiln, and one recovery furnace for consistency with the CAA and the EPA regulations, as interpreted through EPA actions and guidance. See 89 FR 45616. Specifically, the Notice of Proposed Rulemaking addressed the following: (1) A case-by-case emission limit and RACT control options for the power boiler due to its unique fuel mix; (2) an emission limit for the lime kiln that is not covered by other New York Source-specific RACT regulations, and therefore must follow 6 NYCRR part 212 as a process operation; ¹ and (3) an emission limit for the recovery furnace that is not covered by other Source-specific New York RACT regulations, and therefore must follow 6 NYCRR part 212 as a process operation.

¹ Under 6 NYCRR part 212, Definitions (18), `Process operation.' Any industrial, institutional, commercial, agricultural or other activity, operation, manufacture or treatment in which chemical, biological and/or physical properties of the material or materials are changed, or in which the material(s) is conveyed or stored without changing the material(s) if the conveyance or storage system is equipped with a vent(s) and is non-mobile, and that emits air contaminants to the outdoor atmosphere. A process operation does not include an open fire, operation of a combustion installation, or incineration of refuse other than by-products or wastes from a process operation(s).

The EPA is determining through this final action that the NOX RACT emission limits submitted by the State in this November 23, 2022 SSSIP revision for the Facility's power boiler, lime kiln, and recovery furnace are the lowest emission limits with the application of control technology that are reasonably available given technological and economic feasibility considerations. These respective NOX RACT emission limits are contained in the Facility's title V operating permit, 5-1548-00008/00081, under Condition 52, Condition 78, and Condition 85. This operating permit was issued by the State on March 19, 2022, and expires on March 18, 2027.

The specific details for how the NOX emission limits comprise RACT for the power boiler, lime kiln and recovery furnace, and the rationale for the EPA's approval action, are explained in the EPA's Notice of Proposed Rulemaking and are not restated in this final action. For this detailed information, the reader is referred to the EPA's Notice of Proposed Rulemaking. 89 FR 45616 (May 23, 2024).

II. Environmental Justice Considerations

The State of New York did not evaluate environmental justice considerations as part of its SSSIP submittal. The EPA performed an environmental justice analysis solely for the purpose of providing additional context and transparency to the public. The CAA and applicable implementing regulations neither prohibit nor require an evaluation of environmental justice concerns. Thus, the analysis is not a basis of this action. The EPA created a Community Report (the Report) using Version 2.2 of its Environmental Justice Screening and Mapping tool EJ Screen (EJScreen). EJScreen is EPA's environmental justice mapping and screening tool that provides EPA with a nationally consistent dataset and approach for combining environmental and demographic socioeconomic indicators. EJScreen users choose a geographic area; the tool then provides demographic socioeconomic and environmental information for that area. It is important to understand that EJScreen in not a detailed risk analysis. It is a screening tool that examines some of the relevant issues related to environmental justice, and there is uncertainty in the date included. The Report is contained in the EPA docket assigned to this Federal Register document.

The Report addresses a 1-mile ring centered at the Facility. All thirteen EJ Screen environmental indexes are evaluated in the Report: (1) Particulate matter; (2) ozone; (3) diesel particulate matter; (4) air toxics cancer risks; (5) air toxics respiratory health index; (6) toxics releases to air; (7) traffic proximity; (8) lead paint; (9) superfund proximity; (10) risk management plan (RMP) facility proximity; (11) hazardous waste proximity; (12) underground storage tanks; and (13) wastewater discharge. Specific background and source information on these indexes and environmental indicators can be found in the EPA's “EJScreen Technical Documentation for Version 2.2.” ² We analyze both EJ Indexes and Supplemental Indexes because they offer different perspectives on community level vulnerability based on different factors. The EPA used the National percentile instead of the State percentile for the Report results because this SSSIP action is a Federal action. Any environmental index result that is in the 80th percentile or greater is considered to be relatively high when comparing to the United States population. The “percentile” is what EJ Screen uses to compare the area of study to national and state figures.

² EJ Screen, Environmental Justice Mapping and Screening Tool, EJ Screen Technical Documentation for Version 2.2. See https://www.epa.gov/system/files/documents/2023-06/ejscreen-tech-doc-version-2-2.pdf.

The results of the EPA's environmental justice analysis indicated that the population within a 1-mile radius of the Facility was below the 80th percentile for all National EJ Indexes and Supplemental Indexes. Refer to docket assigned to this Federal Register document for the complete Report results.

The EPA expects that finalizing this action is unlikely to result in potential disproportionate health, environmental, and economic impacts on disadvantaged communities in the area surrounding the Facility. This analysis was done solely for the purpose of providing additional context and information about this rulemaking to the public and is not a basis for the action. The EPA is taking action under the CAA and on bases independent of EJ.

III. What comments were received in response to the EPA's proposed action?

The EPA received two public comments during the 30-day public comment period of the EPA's proposed approval of New York's SIP revision. The comments were not relevant to the action. The specific comments may be viewed under Docket ID Number EPA-R02-OAR-2023-0237 on the https://www.regulations.gov website.

Regarding one commenter, the EPA appreciates the commenter's support of keeping NY air clean but notes that this is not relevant to this action.

Regarding another commenter, the EPA appreciates the commenter's description of cannabis plants releasing BVOCs but notes that this is not relevant to this action.

IV. What action is the EPA taking?

Based on a thorough RBLC review of similar sources, information provided by NYSDEC, and an analysis of this Source-specific SIP revision, the EPA is approving Sylvamo Ticonderoga Mill's operation under NYSDEC approved NOX emission limits for the Facility's power boiler, lime kiln, and recovery furnace.

Specifically, the EPA is approving the following limits and associated requirements as implementing RACT: (1) For the emission unit P-OWERH, very large power boiler, a limit of 0.23 lb NOX/MMBtu per 24-hour average (0.22 lb NOX/MMBtu per 30-day rolling average) during the ozone season May 1 through September 30, and 0.23 lb NOX/MMBtu per 30-day rolling average during the non-ozone season October 1 through April 30; (2) for the emission unit R-CAUST, lime kiln, a limit of 120 parts per million by volume (wet, corrected to 10% O2); and (3) for the emission unit R-ECOVB, recovery furnace, a limit of 100 parts per million by volume (dry, corrected to 8% O2).

V. Incorporation by Reference

In this document, the EPA is finalizing regulatory text that includes incorporation by reference. In accordance with requirements of 1 CFR 51.5, the EPA is finalizing the incorporation by reference revisions to Sylvamo Ticonderoga Mill title V operating permit conditions 52, 78, and 85 as described in section I. of this preamble. These documents are available in the docket of this rulemaking through www.regulations.gov. Therefore, these materials have been approved by the EPA for inclusion in the State Implementation Plan, have been incorporated by reference by the EPA into that plan, are fully federally enforceable under sections 110 and 113 of the CAA as of the effective date of the final rulemaking of the EPA's approval, and will be incorporated by reference in the next update to the SIP compilation.³

³ 62 FR 27968 (May 22, 1997).

VI. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve State choices, provided that they meet the criteria of the Clean Air Act. Accordingly, this action merely approves State law as meeting federal requirements and does not impose additional requirements beyond those imposed by State law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where the EPA or an Indian Tribe has demonstrated that a Tribe has jurisdiction. In those areas of Indian country, the rule does not have tribal implications and it will not impose substantial direct costs on tribal governments or preempt tribal law as specified by Executive Order 13175 (65 FR 67249, November 9, 2000).

Executive Order 12898 (Federal Actions to Address Environmental Justice in Minority Populations and Low-Income Populations, 59 FR 7629, Feb. 16, 1994) directs Federal agencies to identify and address “disproportionately high and adverse human health or environmental effects” of their actions on communities with environmental justice (EJ) concerns to the greatest extent practicable and permitted by law. The EPA defines EJ as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.” resulting from the negative environmental consequences of industrial, governmental, and commercial operations or programs and policies.”

The New York State Department of Environmental Conservation did not evaluate environmental justice considerations as part of its SSSIP submittal; the CAA and applicable implementing regulations neither prohibit nor require such an evaluation. The EPA performed an environmental justice analysis, as is described above in the section titled, “Environmental Justice Considerations.” The analysis was done for the purpose of providing additional context and information about this rulemaking to the public, not as a basis of the action. In addition, there is no information in the record upon which this decision is based inconsistent with the stated goal of E.O. 12898 of achieving environmental justice for people of color, low-income populations, and Indigenous peoples.

This action is subject to the Congressional Review Act, and the EPA will submit a rule report to each House of the Congress and the Comptroller General of the United States. This action is not a “major rule” as defined by 5 U.S.C. 804(2).

Under section 307(b)(1) of the Clean Air Act, petitions for judicial review of this action must be filed in the United States Court of Appeals for the appropriate circuit by November 18, 2024. Filing a petition for reconsideration by the Administrator of this final rule does not affect the finality of this action for the purposes of judicial review nor does it extend the time within which a petition for judicial review may be filed and shall not postpone the effectiveness of such rule or action. This action may not be challenged later in proceedings to enforce its requirements. (See section 307(b)(2)).

List of Subjects 40 CFR Part 52

Environmental protection, Air pollution control, Incorporation by reference, Intergovernmental relations, Oxides of nitrogen, Ozone, Reporting and recordkeeping requirements.

Authority: 42 U.S.C. 7401 et seq.

Lisa Garcia,
Regional Administrator, Region 2.

For the reasons stated in the preamble, the EPA amends 40 CFR part 52 as follows:

PART 52—APPROVAL AND PROMULGATION OF IMPLEMENTATION PLANS

1. The authority citation for part 52 continues to read as follows:

Authority: 42 U.S.C. 7401 et seq.

Subpart HH—New York

2. Amend § 52.1670 paragraph (d) the table by adding the entry “Sylvamo Ticonderoga Mill” at the end to read as follows:

§ 52.1670 Identification of plan.

* * * * *

(d) * * *

EPA-Approved New York Source-Specific Provisions
Name of source | Identifier No. | State effective date | EPA approval date | Comments
* * * * * * *
Sylvamo Ticonderoga Mill | 5-1548-00008/00081 | 11/23/2022 | 9/19/2024, [insert Federal Register citation] | RACT emission limits for condition 52, 78, and 85.

[FR Doc. 2024-20560 Filed 9-18-24; 8:45 am]

BILLING CODE 6560-50-P